DEPARTMENT OF DEFENSE

Office of the Secretary

[Transmittal No. 21-36]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-36 with attached Policy Justification and Sensitivity of Technology.

Dated: January 31, 2023.
Aaron T. Siegel,
Alternate OSD Federal Register Liaison Officer, Department of Defense.

BILLING CODE 5001-06-P

BILLING CODE 5001-06-C

Transmittal No. 21-36

Notice of Proposed Issuance of Letter of Offer Pursuant to Section 36(b)(1) of the Arms Export Control Act, as amended

(i) Prospective Purchaser: Government of the Philippines

(ii) Total Estimated Value:

Major Defense Equipment | $ 45 million
Other | $ 75 million
TOTAL | $120 million

Funding Source: National Funds

(iii) Description and Quantity or Quantities of Articles or Services under Consideration for Purchase:

Major Defense Equipment (MDE):

Twelve (12) AGM-84L-1 Harpoon Block II Air Launched Missiles

Two (2) ATM-84L-1 Harpoon Block II Exercise Missiles

Non-MDE:

Also included are containers; spare and repair parts; support and test equipment; publications and technical documentation; personnel training and training equipment; U.S. Government and contractor engineering, technical, and logistical support services; and other related elements of logistical and program support.

(iv) Military Department: Navy (PI-P-AAZ)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: June 24, 2021

*As defined in Section 47(6) of the Arms Export Control Act.

Policy Justification

Philippines—AGM-84L-1 Harpoon Air Launched Block II Missiles

The Government of the Philippines has requested to buy twelve (12) AGM-84L-1 Harpoon Block II air launched missiles; and two (2) ATM-84L-1 Harpoon Block II Exercise missiles. Also included are containers; spare and repair parts; support and test equipment; publications and technical documentation; personnel training and training equipment; U.S. Government and contractor engineering, technical, and logistical support services; and other related elements of logistical and program support. The estimated total cost is $120 million.

This proposed sale will support the foreign policy and national security of the United States by helping to improve the security of a strategic partner that continues to be an important force for political stability, peace, and economic progress in South East Asia.

The proposed sale will enhance the Philippines' interoperability with the U.S. and other allied nations, making it a more valuable partner in an increasingly important area of the world. It will improve the Philippines' capability to meet current and future threats by providing flexible solutions to augment existing surface and air defense. The Philippine Air Force is modernizing its fighter aircraft to better support its own maritime security needs. This capability will provide the Philippine Air Force the ability to employ a highly reliable and effective system to counter or deter maritime aggressions, coastal blockades, and amphibious assaults. The Philippines will have no difficulty absorbing this equipment into its armed forces.

The proposed sale of this equipment and support will not alter the basic military balance in the region.

The prime contractor will be The Boeing Company, St. Louis, MO. There are no known offset agreements proposed in connection with this potential sale.

Implementation of this proposed sale will require travel of U.S. Government or contractor representatives to the Philippines on a temporary basis for program technical support and management oversight.

There will be no adverse impact on U.S. defense readiness as a result of this proposed sale.

Transmittal No. 21-36

Notice of Proposed Issuance of Letter of Offer Pursuant to Section 36(b)(1) of the Arms Export Control Act

Annex

Item No. vii

(vii) Sensitivity of Technology:

1. The Harpoon missile is a non-nuclear tactical weapon system currently in service in the U.S. Navy and in 29 other foreign nations. It provides a day, night, and adverse weather, standoff air-to-surface capability and is an effective Anti-Surface Warfare missile. The AGM-84L incorporates components, software, and technical design information that are considered sensitive, to include:

• The Radar Seeker

• The Radar Altimeter

• The GPS/INS System

• Operational Flight Program Software

• Missile operational characteristics and performance data

These elements are essential to the ability of the Harpoon missile to selectively engage hostile targets under a wide range of operations, tactical and environmental conditions.

2. The highest level of classification of defense articles, components, and services included in this potential sale is CONFIDENTIAL.

3. If a technologically advanced adversary were to obtain knowledge of the specific hardware and software elements, the information could be used to develop countermeasures that might reduce weapon system effectiveness or be used in the development of a system with similar or advanced capabilities.

4. A determination has been made that the Philippines can provide substantially the same degree of protection for the sensitive technology being released as the U.S. Government. This sale is necessary in furtherance of the U.S. foreign policy and national security objectives outlined in the Policy Justification.

5. All defense articles and services listed in this transmittal have been authorized for release and export to the Government of the Philippines.

[FR Doc. 2023-02376 Filed 2-3-23; 8:45 am]

BILLING CODE 5001-06-P